DEPARTMENT OF HOMELAND SECURITY

Federal Emergency Management Agency

[Docket ID FEMA-2025-0002; Internal Agency Docket No. FEMA-B-2541]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before October 16, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2541, to David Bascom, Acting Director, Engineering and Modeling Division, Risk Analysis, Planning & Information Directorate, FEMA, 400 C Street SW, Washington, DC 20472, or (email) david.bascom@fema.dhs.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

Community | Community map repository address
Anson County, North Carolina and Incorporated Areas
Project: 13-04-6162S Preliminary Date: March 31, 2023
Town of Peachland | Town Hall, 32 West Passaic Street, Peachland, NC 28133.
Unincorporated Areas of Anson County | Anson County Inspections and Permitting Department, 575 US Highway 52 South, Wadesboro, NC 28170.
Cabarrus County, North Carolina and Incorporated Areas
Project: 13-04-6162S Preliminary Date: March 31, 2023
Unincorporated Areas of Cabarrus County | Cabarrus County Planning Department, 65 Church Street South, Concord, NC 28025.
Chatham County, North Carolina and Incorporated Areas
Project: 22-04-0025S Preliminary Date: March 31, 2023
Unincorporated Areas of Chatham County | Chatham County Planning Department, 80-A East Street, Pittsboro, NC 27312.
Guilford County, North Carolina and Incorporated Areas
Project: 22-04-0025S Preliminary Date: March 31, 2023
City of High Point | Municipal Building, 211 South Hamilton Street, High Point, NC 27261.
Unincorporated Areas of Guilford County | Guilford County Planning Department, 400 West Market Street, Greensboro, NC 27401.
Montgomery County, North Carolina and Incorporated Areas
Project: 22-04-0025S Preliminary Date: March 31, 2023
Town of Biscoe | Town Hall, 110 West Main Street, Biscoe, NC 27209.
Town of Mount Gilead | Town Hall, 110 West Allenton Street, Mount Gilead, NC 27306.
Town of Star | Town Hall, 454 South Main Street, Star, NC 27356.
Town of Troy | Town Hall, 315 North Main Street, Troy, NC 27371.
Unincorporated Areas of Montgomery County | Montgomery County Central Permitting, 444 North Main Street, Troy, NC 27371.
Moore County, North Carolina and Incorporated Areas
Project: 22-04-0025S Preliminary Date: March 31, 2023
Unincorporated Areas of Moore County | Moore County Planning Department, 1048 Carriage Oaks Drive, Carthage, NC 28327.
Randolph County, North Carolina and Incorporated Areas
Project: 22-04-0025S Preliminary Date: March 31, 2023
City of Archdale | City Hall, 307 Balfour Drive, Archdale, NC 27263.
City of Asheboro | Planning and Zoning Department, 146 North Church Street, Asheboro, NC 27203.
City of Randleman | City Hall, 204 South Main Street, Randleman, NC 27317.
Town of Liberty | Town Hall, 126 South Fayetteville Street, Liberty, NC 27298.
Unincorporated Areas of Randolph County | Randolph County Planning Department, 204 East Academy Street, Asheboro, NC 27205.
Richmond County, North Carolina and Incorporated Areas
Project: 22-04-0025S Preliminary Date: March 31, 2023
City of Hamlet | City Hall, 201 Main Street, Hamlet, NC 28345.
City of Rockingham | City Hall, Planning Department, 514 Rockingham Road, Rockingham, NC 28379.
Unincorporated Areas of Richmond County | Richmond County Planning Department, 1401 Fayetteville Road, Rockingham, NC 28379.
Rowan County, North Carolina and Incorporated Areas
Project: 13-04-6162S Preliminary Date: March 31, 2023 and March 21, 2024
City of Salisbury | City Office Building, 132 North Main Street, Salisbury, NC 28144.
Town of China Grove | Town Hall, 333 North Main Street, China Grove, NC 28023.
Town of East Spencer | Town Hall, 105 South Long Street, East Spencer, NC 28039.
Town of Faith | Town Hall, 100 North Main Street, Faith, NC 28041.
Town of Granite Quarry | Municipal Building, 143 North Salisbury Avenue, Granite Quarry, NC 28146.
Town of Landis | Town Hall, 312 South Main Street, Landis, NC 28088.
Town of Rockwell | Town Hall, 202 East Main Street, Rockwell, NC 28138.
Town of Spencer | Town Hall, 460 South Salisbury Avenue, Spencer, NC 28159.
Unincorporated Areas of Rowan County | Rowan County Planning Department, 402 North Main Street, Salisbury, NC 28144.
Scotland County, North Carolina and Incorporated Areas
Project: 22-04-0025S Preliminary Date: March 31, 2023
Unincorporated Areas of Scotland County | Scotland County Inspections Department, 517 Peden Street, Laurinburg, NC 28352.
Stanly County, North Carolina and Incorporated Areas
Project: 13-04-6162S Preliminary Date: March 31, 2023
City of Albemarle | Planning and Development Services, 144 North 2nd Street, Albemarle, NC 28001.
Town of New London | Town Hall, 114 West Gold Street, New London, NC 28127.
Town of Oakboro | Town Hall, 109 North Main Street, #A, Oakboro, NC 28129.
Town of Richfield | Town Hall, 137 Highway 49 North, Richfield, NC 28137.
Unincorporated Areas of Stanly County | Stanly County Planning and Zoning Department, 1000 North First Street, Suite 13-B, Albermarle, NC 28001.
Surry County, North Carolina and Incorporated Areas
Project: 22-04-0024S Preliminary Date: March 31, 2023
City of Mount Airy | Planning Department, 300 South Main Street, Mount Airy, NC 27030.
Town of Elkin | Town Hall, 226 North Bridge Street, Elkin, NC 28621.
Town of Pilot Mountain | Town Hall, 124 West Main Street, Pilot Mountain, NC 27041.
Unincorporated Areas of Surry County | Surry County Central Permitting Center, 122 Hamby Road, Suite 144, Dobson, NC 27017.
Union County, North Carolina and Incorporated Areas
Project: 13-04-6162S Preliminary Date: March 31, 2023 and March 21, 2024
City of Monroe | Planning Department, 300 West Crowell Street, Monroe, NC 28112.
Town of Fairview | Fairview Town Hall, 7516 Concord Highway, Monroe, NC 28110.
Town of Hemby Bridge | Hemby Bridge Town Hall, 5811 Fairview-Indian Trail Road, Indian Trail, NC 28079.
Town of Indian Trail | Town Hall, 315 Matthews-Indian Trail Road, Indian Trail, NC 28079.
Town of Mineral Springs | Volunteer Fire and Rescue Department, 5804 Waxhaw Highway, Mineral Springs, NC 28112.
Town of Stallings | Planning and Zoning Department, 315 Stallings Road, Second Floor, Stallings, NC 28104.
Town of Unionville | Unionville Town Hall, 1102 Unionville Church Road, Monroe, NC 28110.
Town of Waxhaw | Town Hall, 4218 Waxhaw-Marvin Road, Waxhaw, NC 28173.
Town of Weddington | Town Hall, 1924 Weddington Road, Weddington, NC 28104.
Town of Wingate | Government Center, 101 West Wilson Street, Wingate, NC 28174.
Unincorporated Areas of Union County | Union County Planning Department, 500 North Main Street, Suite 70, Monroe, NC 28112.
Village of Marvin | Village Hall, 10006 Marvin School Road, Marvin, NC 28173.
Village of Wesley Chapel | Town Hall, 6490 Weddington Road, Wesley Chapel, NC 28104.
Wilkes County, North Carolina and Incorporated Areas
Project: 22-04-0024S Preliminary Date: March 31, 2023
Town of North Wilkesboro | Town Hall, 832 Main Street, North Wilkesboro, NC 28659.
Town of Wilkesboro | Town Hall, 203 West Main Street, Wilkesboro, NC 28697.
Unincorporated Areas of Wilkes County | Wilkes County Office Building, 110 North Street, Wilkesboro, NC 28697.
Yadkin County, North Carolina and Incorporated Areas
Project: 22-04-0024S Preliminary Date: March 31, 2023
Town of Jonesville | Town Hall, 1503 NC Highway 67, Jonesville, NC 28642.
Town of Yadkinville | Town Hall, 213 South Van Buren Street, Yadkinville, NC 27055.
Unincorporated Areas of Yadkin County | Yadkin County Manager's Office, 217 East Willow Street, Yadkinville, NC 27055.

[FR Doc. 2025-13544 Filed 7-17-25; 8:45 am]

BILLING CODE 9110-12-P